NATIONAL LABOR RELATIONS BOARD

29 CFR Chapter I

RIN 3142-AA13

The Standard for Determining Joint-Employer Status; Extension of Comment Period

AGENCY: National Labor Relations Board.

ACTION: Proposed rule; second extension of comment period.

SUMMARY: The National Labor Relations Board (the Board) published a Notice of Proposed Rulemaking in the Federal Register of September 14, 2018, seeking comments from the public concerning the standard for determining joint-employer status under the National Labor Relations Act. The date to submit responses to the Notice of Proposed Rulemaking is again extended for 30 days.

DATES: The comment period for the notice of proposed rulemaking published at 83 FR 46681, and first extended at 83 FR 55329, is extended. Comments must be received by the Board on or before January 14, 2019. Comments replying to the comments submitted during the initial comment period must be received by the Board on or before January 21, 2019.

Dated: December 10, 2018.
Farah Z. Qureshi,
Associate Executive Secretary.

[FR Doc. 2018-27024 Filed 12-12-18; 8:45 am]

BILLING CODE P